DEPARTMENT OF TRANSPORTATION

Federal Railroad Administration

49 CFR Part 218

[Docket No. FRA-2021-0032, Notice No. 4]

RIN 2130-AC88

Train Crew Size Safety Requirements; Correction

AGENCY: Federal Railroad Administration (FRA), Department of Transportation (DOT).

ACTION: Proposed rulemaking; correction to announcement of public hearing and extension of comment period.

SUMMARY: The Federal Railroad Administration published a document in the Federal Register of October 27, 2022, announcing a public hearing and extending the comment period for a notice of proposed rulemaking proposing minimum safety requirements for the size of train crews. The document contained a mis-formatted web address to a public website where further information regarding the announced public hearing could be obtained.

DATES: November 4, 2022.

FOR FURTHER INFORMATION CONTACT: Kevin Lewis, Operating Crew Certification Specialist, Federal Railroad Administration, telephone: 918-557-0651, email: kevin.lewis@dot.gov; or Alan Nagler, Senior Attorney, Federal Railroad Administration, telephone: 202-493-6038, email: alan.nagler@dot.gov.

SUPPLEMENTARY INFORMATION:

Correction

In the Federal Register of October 27, 2022, in FR Doc. 2022-23418 on page 65021, in the second column, correct the ADDRESSES caption to read:

ADDRESSES: Public Hearing: The public hearing will allow for participation in-person or virtually. For those participants that prefer to appear in person, the public hearing will be held at the National Association of Home Builders, located at 1201 15th Street NW, Washington, DC 20005. For those participants wishing to make a statement at the public hearing, either in-person or virtually, please contact FRA as described under the Public Participation Procedures heading in the SUPPLEMENTARY INFORMATION section of this document. Any person who wants to participate or observe the public hearing virtually can visit https://railroads.dot.gov/train-crew-staffing-nprm for the web address and hyperlink.

Comments: Comments related to Docket No. FRA-2021-0032 may be submitted by going to https://www.regulations.gov and following the online instructions for submitting comments.

Instructions: All submissions must include the agency name, docket number (FRA-2021-0032), and Regulatory Identification Number (RIN) for this rulemaking (2130-AC88). All comments received will be posted without change to https://www.regulations.gov; this includes any personal information. Please see the Privacy Act heading in the SUPPLEMENTARY INFORMATION section of this document for Privacy Act information related to any submitted comments or materials. Docket: For access to the docket to read background documents or comments received, go to https://www.regulations.gov and follow the online instructions for accessing the docket.

Issued in Washington, DC.
Carolyn R. Hayward-Williams,
Director, Office of Railroad Systems and Technology.

[FR Doc. 2022-24117 Filed 11-3-22; 8:45 am]

BILLING CODE 4910-06-P